DEPARTMENT OF STATE

[Public Notice 9969]

U.S. Advisory Commission on Public Diplomacy; Notice of Meeting

The U.S. Advisory Commission on Public Diplomacy will hold a public meeting from 10:30 a.m. until 12:30 p.m., Tuesday, May 9, 2017 at George Washington University's Elliot School for International Affairs (Lindner Commons, 1957 E Street NW., Washington, DC 20052).

The meeting will be on “Echo Chambers, Artificial Intelligence, and Bot-Driven Disinformation: New Challenges in Public Diplomacy.” This session will examine how public diplomacy practitioners need to adjust strategies and tactics for the modern information ecosystem, including understanding echo chambers, automated disinformation, algorithmic bias, and the proliferation and diversity of foreign propaganda efforts.

The meeting will feature former Chairman of the House Permanent Select Committee on Intelligence (2011-15), Congressman Mike Rogers, as well as a panel of experts on artificial intelligence, political communication, and social media.

This meeting is open to the public, Members and staff of Congress, the State Department, Defense Department, the media, and other governmental and non-governmental organizations. To attend and make any requests for reasonable accommodation, email Michelle Bowen at BowenMC1@state.gov by 5 p.m. on Wednesday, May 3, 2017. Please arrive for the meeting by 10:15 a.m. to allow for a prompt meeting start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. Sim Farar of California, Chairman; Mr. William Hybl of Colorado, Vice Chairman; Ambassador Lyndon Olson of Texas, Vice Chairman; Ambassador Penne Korth-Peacock of Texas; Anne Terman Wedner of Illinois; and Ms. Georgette Mosbacher of New York. One seat on the Commission is currently vacant.

To request further information about the meeting or the U.S. Advisory Commission on Public Diplomacy, you may contact its Executive Director, Dr. Shawn Powers, at PowersSM@state.gov.

Shawn Powers,
Executive Director, Advisory Commission on Public Diplomacy, Department of State.

[FR Doc. 2017-08009 Filed 4-19-17; 8:45 am]

BILLING CODE 4710-45-P